DEPARTMENT OF LABOR

Employment and Training Administration

[TA-W-81,565]

The Travelers Indemnity Company, Personal Insurance Remittance Center, Hartford, CT; Notice of Affirmative Determination Regarding Application for Reconsideration

By application dated August 9, 2012, workers requested administrative reconsideration of the negative determination regarding workers' eligibility to apply for Trade Adjustment Assistance (TAA) applicable to workers and former workers of The Travelers Indemnity Company, Personal Insurance Remittance Center, Hartford, Connecticut (Travelers-PIRC). The determination was issued on June 27, 2012 and the Notice of Determination was published in the Federal Register on July 18, 2012 (77 FR 42337). The subject workers are engaged in activities related to the supply of remittance payment processing services related to premium payments.

The initial investigation resulted in a negative determination based on the findings that Travelers-PIRC did not shift the supply of remittance payment processing services (or like or directly competitive services) to a foreign country, or acquire the supply of such services from a foreign country. Rather, the services formerly supplied by Travelers-PIRC are being performed by a third-party vendor in Texas which also provides a new service that is supplied on a limited, intermittent basis by a resource in India.

The initial investigation also revealed that Travelers-PIRC did not increase its reliance on imports of like or directly competitive services.

In the request for reconsideration, the workers allege that the “limited, intermittent * * * resource in India” is “an entire unit in India, literally processing an integral and essential part of the daily work flow, each and every day, and on a regularly scheduled basis. Without this unit, the processing of the vendor would fail in its ability to process an important part of the daily work load.” The request included non-proprietary support material.

The Department has carefully reviewed the request for reconsideration and the existing record, and will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 20th day of August, 2012.
Del Min Amy Chen,
Certifying Officer, Office of Trade Adjustment Assistance.

[FR Doc. 2012-21622 Filed 8-31-12; 8:45 am]

BILLING CODE 4510-FN-P